FEDERAL COMMUNICATIONS COMMISSION

47 CFR Part 73

[DA 05-28, MB Docket No.05-4, RM-11133]

Radio Broadcasting Services; Hagerstown and Myersville, MD

AGENCY: Federal Communications Commission.

ACTION: Proposed rule.

SUMMARY: This document seeks comment on a petition for rulemaking filed by Manning Broadcasting, Inc., licensee of Station WARX (FM), Hagerstown, Maryland, proposing the reallotment of Channel 295B from Hagerstown to Myersville, Maryland, as the community's first local transmission service, and the modification of the license for Station WARX (FM) to reflect the new community. Channel 295B has been proposed to be reallotted at Myersville at a site 3.9 kilometers (2.4 miles) west of the community at coordinates 39-29-57 NL and 77-36-42 WL.

DATES: Comments or counterproposals must be filed on or before March 3, 2005, and reply comments on or before March 18, 2005.

ADDRESSES: Secretary, Federal Communications Commission, 445 12th Street, SW., Room TW-A325, Washington, DC 20554. In addition to filing comments with the FCC, interested parties should serve the petitioner's counsel, as follows: David D. Oxenford, Esq., Veronica D. McLaughlin-Tippett, Esq., Shaw Pittmann, LLP, 2300 N Street, NW., Washington, DC 20037-1128.

FOR FURTHER INFORMATION CONTACT: Victoria M. McCauley, Media Bureau, (202) 418-2180.

SUPPLEMENTARY INFORMATION: This is a summary of the Commission's Notice of Proposed Rulemaking, MB Docket No. 05-4, adopted January 5, 2005, and released January 10, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC, 20054, telephone 800-378-3160 or http://www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Maryland, is amended by removing Channel 295B at Hagerstown and adding Myersville, Channel 295B.

Federal Communications Commission.
John A. Karousos,
Assistant Chief, Audio Division, Media Bureau.

[FR Doc. 05-1369 Filed 1-25-05; 8:45 am]

BILLING CODE 6712-01-P